DEPARTMENT OF ENERGY

Federal Energy Regulatory Commission

Sunshine Act Meeting Notice

March 12, 2015

The following notice of meeting is published pursuant to section 3(a) of the government in the Sunshine Act (Pub. L. 94-409), 5 U.S.C. 552b:

Agency Holding Meeting: Federal Energy Regulatory Commission, DOE.

Date and time: March 19, 2015, 10 a.m.

Place: Room 2C, 888 First Street NE., Washington, DC 20426.

Status: Open.

Matters to be Considered: Agenda.

* NOTE—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1014TH—Meeting
Item No | Docket No. | Company
Administrative
A-1 | AD02-1-000 | Agency Business Matters.
A-2 | AD02-7-000 | Customer Matters, Reliability, Security and Market Operations.
A-3 | AD06-3-000 | Market Update.
A-4 | AD15-8-000 | OAL Contributions to the Work of the Commission.
Electric
E-1 | RM14-11-000 | Open Access and Priority Rights on Interconnection Customer's Interconnection Facilities.
E-2 | NP15-1-000 | North American Electric Reliability Corporation.
E-3 | RR15-4-000 | North American Electric Reliability Corporation.
E-4 | ER13-193-001 ER13-193-003 ER13-196-001 ER13-196-002 | ISO New England Inc.
E-5 | ER13-1939-000 ER13-1928-000 ER13-1930-000 ER13-1940-000 ER13-1941-000 (not consolidated) | Southwest Power Pool, Inc. Duke Energy Carolinas, LLC. Duke Energy Progress, Inc. Louisville Gas and Electric Company. Ohio Valley Electric Corporation. Alabama Power Company.
E-6 | EL13-62-000 | Independent Power Producers of New York, Inc. v. New York Independent System Operator, Inc.
E-7 | ER14-543-000 | New York Independent System Operator, Inc. Niagara Mohawk Power Corporation.
E-8 | ER14-543-001 | New York Independent System Operator, Inc. Niagara Mohawk Power Corporation.
E-9 | ER14-2869-000 EL14-71-000 | Black Hills Power, Inc.
E-10 | ER14-2875-000 EL14-72-000 | UNS Electric, Inc.
E-11 | ER14-2882-000 EL14-73-000 | The Empire District Electric Company.
E-12 | ER14-2884-000 EL14-74-000 EL14-75-000 | Kansas City Power and Light Company and KCP&L Greater Missouri Operations Company. Kansas City Power and Light Company. KCP&L Greater Missouri Operations Company.
E-13 | ER14-2866-000 EL14-76-000 | Louisville Gas and Electric Company and Kentucky Utilities Company.
E-14 | ER14-2852-000 EL14-77-000 | Westar Energy, Inc.
E-15 | RM15-5-000 | Revised Exhibit Submission Requirements for Commission Hearings.
E-16 | OMITTED |
E-17 | OMITTED |
E-18 | OMITTED |
E-19 | OMITTED |
E-20 | EL07-39-006 ER08-695-004 ER10-2371-000 | New York Independent System Operator, Inc.
E-21 | OMITTED |
E-22 | OMITTED |
Hydro
H-1 | P-12588-011 | Hydraco Power, Inc. and Warren David Long.
H-2 | P-12429-013 | Clark Canyon Hydro, LLC.
Certificates
C-1 | CP14-504-000 | Transcontinental Gas Pipe Line Company, LLC.
C-2 | CP15-30-000 CP15-34-000 | Southern Natural Gas Company, L.L.C. AMP Gathering I, LP.
C-3 | CP14-27-000 | Tres Palacios Gas Storage LLC.

Kimberly D. Bose,
Secretary.

A free webcast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-06157 Filed 3-13-15; 11:15 am]

BILLING CODE 6717-01-P